JUDICIAL CONFERENCE OF THE UNITED STATES

Meeting of the Judicial Conference Advisory Committee on Rules of Appellate Procedure

AGENCY: Judicial Conference of the United States Advisory Committee on Rules of Appellate Procedure.

ACTION: Notice of open meeting.

SUMMARY: The Advisory Committee on Rules of Appellate Procedure will hold a two-day meeting. The meeting will be open to public observation but not participation.

DATES: April 16-17, 2009.

Time: 8:30 a.m. to 5 p.m.

ADDRESSES: Hotel Phillips, 106 W. 17th Street, Kansas City, MO 64105.

FOR FURTHER INFORMATION CONTACT: John K. Rabiej, Chief, Rules Committee Support Office, Administrative Office of the United States Courts,Washington, DC 20544, telephone (202) 502-1820.

Dated: January 5, 2009.
John K. Rabiej,
Chief, Rules Committee Support Office.

[FR Doc. E9-1389 Filed 1-23-09; 8:45 am]

BILLING CODE 2210-55-M